DEPARTMENT OF TRANSPORTATION

Surface Transportation Board

[STB Docket No. AB-33 (Sub-No. 204X)]

Union Pacific Railroad Company—Discontinuance of Service Exemption—in Washington County, MO

Union Pacific Railroad Company (UP) has filed a notice of exemption under 49 CFR Part 1152 Subpart F—Exempt Abandonment and Discontinuances of Service to discontinue service over the Pea Ridge Subdivision, a 20.67-mile line of railroad, extending from milepost 63.75, near New Fountain Farm, to milepost 84.42, near Pea Ridge, in Washington County, MO. The line traverses United States Postal Service Zip Code 93635.

UP has certified that: (1) No local traffic has moved over the line for at least 2 years; (2) there is no overhead traffic on the line; (3) no formal complaint filed by a user of rail service on the line (or by a state or local government entity acting on behalf of such user) regarding cessation of service over the line either is pending with the Board or with any U.S. District Court or has been decided in favor of complainant within the 2-year period; and (4) the requirements of 49 CFR 1105.12 (newspaper publication) and 49 CFR 1152.50(d)(1) (notice to governmental agencies) have been met.

As a condition to this exemption, any employee adversely affected by the abandonment shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on May 22, 2009,¹ unless stayed pending reconsideration. Petitions to stay that do not involve environmental issues and formal expressions of intent to file an OFA for continued rail service under 49 CFR 1152.27(c)(2),² must be filed by May 4, 2009.³ Petitions to reopen must be filed by May 12, 2009, with the Surface Transportation Board, 395 E Street, SW., Washington, DC 20423-0001.

¹ UP's notice of exemption stated May 21, 2009, as the date of consummation. UP's counsel was notified that May 22, 2009, is the earliest day that the discontinuance may be consummated (50 days after the filed date).

² Each OFA must be accompanied by the filing fee, which is currently set at $1,500. See 49 CFR 1002.2(f)(25).

³ In discontinuance proceedings, trail use/rail banking and public use conditions are not appropriate. Likewise, no environmental or historical documentation is required here under 49 CFR 1105.6(c) and 1105.8(b), respectively. As part of their notice of exemption, UP also requests authority to temporarily remove the track structure and any related highway grade crossing signal systems to provide highway vehicles with unobstructed passage over grade crossings. UP acknowledges that they are obligated to reinstall track and any grade crossing signal systems at its sole expense should operations on the line be reinstated.

A copy of any petition filed with the Board should be sent to UP's representative: Mack H. Shumate, Jr., 101 North Wacker Drive, Room 1920, Chicago, IL 60606.

If the verified notice contains false or misleading information, the exemption is void ab initio.

Board decisions and notices are available on our Web site at http://www.stb.dot.gov.

Decided: April 10, 2009.
By the Board, Joseph H. Dettmar, Acting Director, Office of Proceedings.
Jeffrey Herzig,
Clearance Clerk.

[FR Doc. E9-8765 Filed 4-21-09; 8:45 am]

BILLING CODE 4915-01-P